DEPARTMENT OF THE INTERIOR

Fish and Wildlife Service

Fiscal Year 2004 Private Stewardship Grants Program; Request for Grant Proposals

AGENCY: Fish and Wildlife Service, Interior.

ACTION: Notice of request for proposals.

SUMMARY: We, the U.S. Fish and Wildlife Service (Service), are soliciting project proposals for Federal assistance under the Private Stewardship Grants Program (PSGP). This document describes how to access the required information for applying for funding under the PSGP through Grants.gov. In the future all notices of Federal assistance and requests for proposals for the PSGP will be made available through Grants.gov. The Service will discontinue the use of the Federal Register for such announcements following this notification.

The PSGP provides grants and other assistance on a competitive basis to individuals and groups engaged in private, voluntary conservation efforts that benefit species listed or proposed as endangered or threatened under the Endangered Species Act of 1973, as amended (Act), candidate species, or other at-risk species on private lands within the United States.

DATES: Project proposals must be received by the appropriate Regional Office (see Table 1 in SUPPLEMENTARY INFORMATION) no later than March 8, 2004.

ADDRESSES: For additional information, contact the Service's Regional Office that has the responsibility for the State or Territory in which the proposed project would occur. The contact information for each Regional Office is listed in Table 1 under SUPPLEMENTARY INFORMATION below. Information on the PSGP is available through the Internet site Grants.gov (http://www.grants.gov), from the Branch of State Grants, U.S. Fish and Wildlife Service, 4401 N. Fairfax Drive, Room 420, Arlington, VA 22203, or electronically from our Web site at http://endangered.fws.gov/grants/private_stewardship.html or e-mail: Privatestewardship@fws.gov.

FOR FURTHER INFORMATION CONTACT: The Program Contact in the appropriate Regional Office identified in Table 1 under SUPPLEMENTARY INFORMATION or Don Morgan, Acting Chief, Branch of State Grants (703-358-2061).

SUPPLEMENTARY INFORMATION:

Background

The majority of endangered and threatened species depend, at least in part, upon privately owned lands for their survival. The help of landowners is essential for the conservation of these and other imperiled species. Fortunately, many private landowners want to help. Often, however, the costs associated with implementing conservation actions are greater than a landowner could undertake without financial assistance. The PSGP provides grants or other Federal assistance on a competitive basis to individuals and groups engaged in private, voluntary conservation efforts that benefit species listed or proposed as endangered or threatened under the Act, candidate species, or other at-risk species on private lands within the United States.

The United States Fish and Wildlife Service, Endangered Species Program is soliciting project proposals for Federal assistance under the PSGP (Catalog of Federal Domestic Assistance Number 15.632). This document describes how to access the required information for applying for funding under the PSGP through the Grants.gov website.

Dates: Proposals must be submitted to our Regional Offices within 60 days of this announcement.

Additional Information

Eligible PSGP projects include those by landowners and their partners who need technical and financial assistance to improve habitat or implement other activities on private lands. Under the PSGP, privately owned means land that is not owned by a governmental entity. The PSGP supports on-the-ground conservation actions as opposed to planning or research activities, and we will not fund the acquisition of real property either through fee title or easements.

Private landowners, individually or as a group, are encouraged to submit project proposals for their properties. Additionally, individuals or groups (for example land conservancies, community organizations, or conservation organizations) working with private landowners on conservation efforts are also encouraged to submit project proposals provided they identify specific private landowners who have confirmed their intent to participate on the project or provide other evidence in the project proposal to demonstrate landowner participation will occur.

A PSGP proposal must include at least 10 percent cost sharing (i.e., at least 10 percent of total project cost) on the part of the landowner or other non-Federal partners involved in the project. The cost share must come from sources other than the PSGP or other Federal funds.

A complete program announcement and request for proposals may be accessed by visiting Grants.gov (www.grants.gov). Grants.gov is the new single point of entry for posting Federal government grant and other assistance opportunities. Potential applicants for the PSGP may access program overview information, the full text of the announcement, and the application package for this request for proposals by accessing Grants.gov and then using the FIND utility (“Find Grant Opportunities,” or http://fedgrants.gov/grants/servlet/SearchServlet/) to access this information. Potential applicants may use the FIND utility by searching for the PSGP either by entering the title “Private Stewardship Grants Program” or by using the PSGP's Catalog of Federal Domestic Assistance (CFDA) number of 15.632.

Table 1.—List of Regional Contacts
Service region | States or territory where the project will occur | Address | Regional PSGP contact and phone No.
Region 1 | Hawaii, Idaho, Oregon, Washington, American Samoa, Guam, and Commonwealth of the Northern Mariana Islands | U.S. Fish and Wildlife Service, Eastside Federal Complex, 911 N.E. 11th Avenue, Portland, OR 97232-4181 | Heather Hollis (503-231-6241.
Region 1 | California and Nevada | U.S. Fish and Wildlife Service, Federal Building, 2800 Cottage Way, Room W-2606, Sacramento, CA 95825-1846 | Michael Fris (916-414-6464).
Region 2 | Arizona, New Mexico, Oklahoma, and Texas | U.S. Fish and Wildlife Service, 500 Gold Avenue SW., Room 4012, Albuquerque, NM 87102 | Mike McCollum (817-277-1100).
Region 3 | Illinois, Indiana, Iowa, Michigan, Minnesota, Missouri, Ohio and Wisconsin | U.S. Fish and Wildlife Service, Bishop Henry Whipple Federal Building, One Federal Drive, Fort Snelling, MN 55111-4056 | Peter Fasbender (612-713-5343).
Region 4 | Alabama, Arkansas, Florida, Georgia, Kentucky, Louisiana, Mississippi, North Carolina, South Carolina, Tennessee, Puerto Rico, and the U.S. Virgin Islands | U.S. Fish and Wildlife Service, 1875 Century Boulevard, Suite 200, Atlanta, GA 30345 | Richard Gooch (404-679-7124).
Region 5 | Connecticut, Delaware,District of Columbia, Maine, Maryland, Massachusetts, New Hampshire, New Jersey, New York, Pennsylvania, Rhode Island, Vermont, Virginia, and West Virginia | U.S. Fish and Wildlife Service, 300 Westgate Center Drive, Hadley, MA 01035-9589 | Diane Lynch (413-253-8628).
Region 6 | Colorado, Kansas, Montana, Nebraska, North Dakota, South Dakota, Utah, and Wyoming | U.S. Fish and Wildlife Service, P.O. Box 25486, Denver Federal Center, Denver, CO 80225-0486 | Pat Mehlhop (303-236-7400 ext. 225).
Region 7 | Alaska | U.S. Fish and Wildlife Service, 1011 East Tudor Road, Anchorage, AK 99503-6199 | Michael Roy (907-786-3925).

The information collection requirements associated with the PSGP are approved under Office of Management and Budget (OMB) control number 1018-0118, which expires on July 31, 2005. An agency may not conduct or sponsor, and a person is not required to respond to, a collection of information unless it displays a currently valid OMB control number.

Dated: November 6, 2003.
Marshall Jones,
Acting Director, U.S. Fish and Wildlife Service.

[FR Doc. 04-3 Filed 1-5-04; 8:45 am]

BILLING CODE 4310-55-P